DEPARTMENT OF TRANSPORTATION

Federal Aviation Administration

Notice of Intent to Rule on Application to Impose and Use the Revenue From a Passenger Facility Charge (PFC) at Houghton County Memorial Airport, Hancock, MI

AGENCY: Federal Aviation Administration (FAA), DOT.

ACTION: Notice of Intent to Rule on Application.

SUMMARY: The FAA proposes to rule and invites public comment on the application to impose and use the revenue from a PFC at Houghton County Memorial Airport under the provisions of the Aviation Safety and Capacity Expansion Act of 1990 (Title IX of the Omnibus Budget Reconciliation Act of 1990) (Pub. L. 101-508) and part 158 of the Federal Aviation Regulations (14 CFR part 158).

DATES: Comments must be received on or before July 13, 2001.

ADDRESSES: Comments on this application may be mailed or delivered in triplicate to the FAA at the following address: Federal Aviation Administration, Detroit Airports District Office, Willow Run Airport, East, 8820 Beck Road, Belleville, Michigan 48111.

In addition, one copy of any comments submitted to the FAA must be mailed or delivered to Sandra D. La Mothe, Airport Manager, Houghton County Memorial Airport at the following address: Houghton County Memorial Airport, 23810 Airpark Boulevard, Suite 113, Calumet, Michigan 49913. Air carriers and foreign air carriers may submit copies of written comments previously provided to the Houghton County Memorial Airport under section 158.23 of part 158.

FOR FURTHER INFORMATION CONTACT: Arlene Draper, Program Manager, Federal Aviation Administration, Detroit Airports District Office, Willow Run Airport, East, 8820 Beck Road, Belleville, Michigan 48111 (734-487-7282). The application may be reviewed in person at this same location.

SUPPLEMENTARY INFORMATION: The FAA proposes to rule and invites public comment on the application to impose and use the revenue from a PFC at Houghton County Memorial Airport under the provisions of the Aviation Safety and Capacity Expansion Act of 1990 (Title IX of the Omnibus Budget Reconciliation Act of 1990) (Pub. L. 101-508) and part 158 of the Federal Aviation Regulations (14 CFR part 158).

On May 7, 2001, the FAA determined that the application to impose and use the revenue from a PFC submitted by Houghton County Memorial Airport was substantially complete within the requirements of § 158.25 of part 158. The FAA will approve or disapprove the application, in whole or in part, no later than August 14, 2001.

The following is a brief overview of the application.

PFC Application No.: 01-08-C-00-CMX.

Level of the proposed PFC: $3.00.

Proposed charge effective date: July 1, 2001.

Proposed charge expiration date: September 1, 2005.

Total estimated PFC revenue: $254,644.00.

Brief description of proposed projects: Reimbursement of charges for PFC application 99-07-C-00-CMX preparation, rehabilitate runway 13/31 and relocate high intensity runway lights.

Class or classes of air carriers which the public agency has requested not be required to collect PFCs: No class requested to be excluded.

Any person may inspect the application in person at the FAA office listed above under FOR FURTHER INFORMATION CONTACT.

In addition, any person may, upon request, inspect the application, notice, and other documents germane to the application in person at the Houghton County Memorial Airport.

Issued in Des Plaines, Illinois, on June 6, 2001.
Benito De Leon,
Manager, Planning and Programming Branch, Airports Division, Great Lakes Region.

[FR Doc. 01-14907 Filed 6-12-01; 8:45 am]

BILLING CODE 4910-13-M